FEDERAL COMMUNICATIONS COMMISSION

47 CFR Part 73

[DA 10-1806; MB Docket No. 10-189; RM-11611]

Radio Broadcasting Services; Willow Creek, CA

AGENCY: Federal Communications Commission.

ACTION: Proposed rule.

SUMMARY: This document sets forth a proposal to amend the FM Table of Allotments. The Commission requests comment on a petition filed by Miriam Media, Inc., proposing the allotment of FM Channel 258A at Willow Creek, California. Petitioner, the auction winner and permittee of Channel 253A, Willow Creek, has submitted an application to specify operation of the station on Channel 254C1 at Loleta, California. Petitioner proposes the allotment of Channel 258A at Willow Creek in order to maintain a first local service at that community. Petitioner concedes that the signal contour of proposed Channel 258A at Willow Creek would not provide 70 dBu city-grade coverage to the entire Census Designated Place of Willow Creek, but argues that it has demonstrated substantial compliance with section 73.315(a) of the Commission's rules, and that the proposed allotment would serve the public interest. Channel 258A can be allotted at Willow Creek in compliance with the Commission's minimum distance separation requirements at 40-57-29 North Latitude and 123-42-23 West Longitude. See SUPPLEMENTARY INFORMATION infra.

DATES: The deadline for filing comments is November 18, 2010. Reply comments must be filed on or before December 3, 2010.

ADDRESSES: Federal Communications Commission, 445 12th Street, SW., Washington, DC 20554. In addition to filing comments with the FCC, interested parties should serve counsel for petitioner as follows: Evan Carb, Esq., Law Offices of Evan D. Carb, PLLC, 1140 Nineteenth Street, NW., Suite 600, Washington, DC 20036.

FOR FURTHER INFORMATION CONTACT: Deborah A. Dupont, Media Bureau (202) 418-7072.

SUPPLEMENTARY INFORMATION: This is a synopsis of the Commission's Notice of Proposed Rule Making, MB Docket No. 10-189, adopted September 24, 2010, and released September 27, 2010. The full text of this Commission decision is available for inspection and copying during normal business hours in the FCC Reference Information Center (Room CY-A257), 445 12th Street, SW., Washington, DC 20554. The complete text of this decision may also be purchased from the Commission's copy contractor, Best Copy and Printing, Inc., 445 12th Street, SW., Room CY-B402, Washington, DC 20554, (800) 378-3160, or via the company's Web site, http://www.bcpiweb.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506 (c)(4).

The Provisions of the Regulatory Flexibility Act of 1980 do not apply to this proceeding. Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336 and 339.

§ 73.202 [Amended]

2. Section 73.202(b), the Table of FM Allotments under California, is amended by adding Channel 258A at Willow Creek.

Federal Communications Commission.
John A. Karousos,
Assistant Chief, Audio Division, Media Bureau.

[FR Doc. 2010-26061 Filed 10-14-10; 8:45 am]

BILLING CODE 6712-01-P